DEPARTMENT OF TRANSPORTATION

Federal Aviation Administration

Proposed Advisory Circular for Onboard Recording of Data Communications in Crash-Survivable Memory

AGENCY: Federal Aviation Administration (FAA), (DOT).

ACTION: Notice of availability and requests for public comment.

SUMMARY: This notice announces the availability of and request comments on a revised proposed Advisory Circular (AC) for onboard data recording. The proposed AC establishes an acceptable means, but not the only means, to provide airborne capability for onboard recording of voice and data link messages in crash-survivable memory.

DATES: We must receive comments on the proposed AC on or before May 20, 2003.

ADDRESSES: Send all comments on the proposed AC to: Federal Aviation Administration, Aircraft Certification Service, Aircraft Engineering Division, Avionics Systems Branch, AIR-130, 470 L'Enfant Plaza, SW., Washington, DC 20025. ATTN. Mr. Gregory Frye. Or, deliver comments to the address listed above to Suite 4102.

FOR FURTHER INFORMATION CONTACT: Mr. Gregory Frye, Avionics Systems Branch, AIR-130, Aircraft Certification Service, Aircraft Engineering Division, AIR-130, 470 L'Enfant Plaza, SW., Suite 4102, Washington, DC 20025; Telephone (202) 385-4630; Fax (202) 385-4651. E-mail comments to: Gregory.E.Frye@faa.gov.

SUPPLEMENTARY INFORMATION:

Comments Invited

You are invited to comment on the proposed AC by submitting such written data, views, or arguments to the above specified address. You may examine comments we have received on the proposed AC before and after the comment closing date, in the FAA's office located at 470 L'Enfant Plaza, SW., Suite 4102, Washington, DC 20025, weekdays except Federal holidays, between 8:30 a.m. and 4:30 p.m. The Director, Aircraft Certification Service, will consider all communications received on or before the closing date before issuing the final AC.

Background

The rapid expansion of International Civil Aviation Organization (ICAO) Communications, Navigation, Surveillance/Air Traffic Management (CNS/ATM) concepts have resulted in new technologies which make judicious use of data communication applications for transference of safety of flight information. In addition, aircraft operators have long realized the benefit of the use of data link communication applications for conveyance of Aeronautical Operational Control (AOC) and Aeronautical Communications (AAC).

Fundamental accident/incident investigative needs require sufficient information to accurately reconstruct an accident/incident scenario. Investigative authorities have identified shortcomings in the ability of aircraft systems to record information needed to determine the cause of accidents and other reportable occurrences. One of the specific shortcomings is the lack of airborne capacity for onboard recording of data link messages in crash-survivable memory. Thus, recording data communication information in crash-survivable memory provides investigative authorities a necessary and useful tool for post accident/incident reconstruction.

How To Obtain Copies

A copy of the proposed AC may be obtained via the Internet, at http://www.airweb.faa.gov/rgl or by contacting the person listed in the section titled FOR FURTHER INFORMATION CONTACT.

Issued in Washington, DC, on April 16, 2003.
Susan J. M. Cabler,
Deputy Manager, Aircraft Engineering Division, Aircraft Certification Service.

[FR Doc. 03-10049 Filed 4-22-03; 8:45 am]

BILLING CODE 4910-13-M